DEPARTMENT OF ENERGY

Federal Energy Regulatory Commission

[Docket No. CP07-405-000]

Texas Gas Transmission, LLC; Notice of Filing

July 3, 2007.

Take notice that on June 25, 2007, Texas Gas Transmission, LLC (Texas Gas), 3800 Frederica Street, Owensboro, Kentucky 42301, filed an abbreviated application for a certificate of public convenience and necessity, pursuant to Section 7 of the Natural Gas Act (NGA) and Part 157 of the Commission's Rules and Regulations, authorizing Texas Gas to expand its facilities at Midland Gas Storage Field in Muhlenberg County, Kentucky. The project will provide up to 8.25 Bcf of new firm storage capacity, as well as provide up to 92.2 MMcf/d of increased firm deliverability. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Texas Gas is seeking a determination that it qualifies for market-based rates. In the event that the Commission does not allow market-based rates for the new storage capacity under either the traditional market power analysis or section 4(f) of the NGA, Texas Gas seeks authorization to construct only the facilities necessary to create approximately 2 Bcf of new storage capacity at the rates reflected in the Precedent Agreement between Texas Gas and its storage customer.

For the 2 Bcf expansion, Texas Gas proposes the following activities:

—To install a discharge cooler and additional gas dehydration facilities, and to uprate two electric drive compressors (from 1,250 to 1,500 HP each) at the Midland 3 Compressor Station, and

—To restage one existing centrifugal compressor at the Slaughters Compressor Station.

For the full 8.25 Bcf expansion, Texas Gas proposes the following additional activities:

—At the Midland 3 Compressor Station, to install one 5,488 HP Solar Centaur 50gas turbine13 and auxiliary facilities, to retire in place two existing 2,000 HP Delaval reciprocating compressor units, including certain auxiliary facilities, and to construct a 2,900-foot extension of its E-9 16-inch storage lateral.

—To construct approximately 11 miles of 30-inch mainline pipeline loop from the discharge side of the Midland 3 Compressor Station to a point near Hanson, Kentucky.

—To drill seven horizontal injection/withdrawal wells and install related piping and measurement at Midland.

Texas Gas proposes the service dates of November 1, 2008 and November 1, 2009 for the 2 Bcf expansion and 8.25 Bcf expansion, respectively.

Any questions regarding the application are to be directed to Kathy D. Fort, Manager of Certificates and Tariffs, Texas Gas Transmission, LLC, 3800 Frederica Street, Owensboro, Kentucky 42301.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: July 24, 2007.

Kimberly D. Bose,
Secretary.

[FR Doc. E7-13442 Filed 7-10-07; 8:45 am]

BILLING CODE 6717-01-P